DEPARTMENT OF COMMERCE

National Oceanic and Atmospheric Administration

RIN 0648-XD687

New England Fishery Management Council; Public Meeting

AGENCY: National Marine Fisheries Service (NMFS), National Oceanic and Atmospheric Administration (NOAA), Commerce.

ACTION: Notice; public meeting.

SUMMARY: The New England Fishery Management Council's (Council) Scientific and Statistical Committee (SSC) will meet to consider actions affecting New England fisheries in the exclusive economic zone (EEZ).

DATES: The meeting will be held on Tuesday, January 13, 2015 beginning at 9:30 a.m.

ADDRESSES: Meeting Address: The meeting will be held at the Hilton Providence, 21 Atwells Ave., Providence, RI 02903.

Council Address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda Items

The New England Fishery Management Council's SSC's items for discussion will be: Planning for ABC recommendations needed by the Council in 2015; Discuss a process for dealing with ABC recommendations when recent assessment information is not available; Review & schedule the SSC meetings calendar for 2015 and discuss fishery performance indicators. Also on the agenda will be discussion about improvements to the SSC process. The committee will address other business as necessary.

Although non-emergency issues not contained in this agenda may be discussed, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Thomas A. Nies (see ADDRESSES) at least 5 days prior to the meeting date.

Authority: 16 U.S.C. 1801 et seq.

Dated: December 22, 2014.
Tracey L. Thompson,
Acting Deputy Director, Office of Sustainable Fisheries, National Marine Fisheries Service.

[FR Doc. 2014-30414 Filed 12-29-14; 8:45 am]

BILLING CODE 3510-22-P